DEPARTMENT OF STATE

[Public Notice 9106]

Issuance of a Presidential Permit To Replace, Expand, Operate and Maintain the Existing Columbus Land Port of Entry

SUMMARY: The Department of State issued a Presidential Permit to the General Services Administration (GSA) on April 14, 2015, allowing the GSA to replace, expand, operate and maintain the existing Columbus Land Port of Entry in Columbus, New Mexico. In making this determination, the Department provided public notice of the proposed permit (79 FR 68345, November 14, 2014), offered the opportunity for comment, and consulted with other federal agencies, as required by Executive Order 11423, as amended.

FOR FURTHER INFORMATION CONTACT: The Mexico Border Affairs Unit, via email at WHA-BorderAffairs@state.gov, by phone at 202 647-9894 or by mail at Office of Mexican Affairs—Room 3924, Department of State, 2201 C St. NW., Washington, DC 20520. Information about Presidential permits is available on the Internet at http://www.state.gov/p/wha/rt/permit/.

SUPPLEMENTARY INFORMATION: The following is the text of the issued permit:

Presidential Permit

Authorizing the General Services Administration To Replace, Expand, Operate, and Maintain the Existing Port of Entry Facilities for the Columbus, NM, Land Port of Entry

By virtue of the authority vested in me as Under Secretary of State for Economic Growth, Energy, and the Environment, including those authorities under Executive Order 11423, 33 FR 11741, as amended by Executive Order 12847 of May 17, 1993, 58 FR 29511, Executive Order 13284 of January 23, 2003, 68 FR 4075, and Executive Order 13337 of April 30, 2004, 69 FR 25299; and Department of State Delegation of Authority 118-2 of January 26, 2006; having considered the environmental effects of the proposed action in accordance with the National Environmental Policy Act of 1969 (83 Stat. 852; 42 U.S.C. 4321 et seq.) and other statutes relating to environmental concerns; having considered the proposed action in accordance with the National Historic Preservation Act (80 Stat. 917, 16 U.S.C. 470f et seq.); and having requested and received the views of various of the federal departments and other interested persons; I hereby grant permission, subject to the conditions herein set forth, to the General Services Administration (hereinafter referred to as “permittee”) to replace, expand, operate, and maintain the existing port of entry facilities for the Columbus, New Mexico, Land Port of Entry.

The term “facilities” as used in this permit means buildings and ancillary structures; commercial, non-commercial, and pedestrian processing and inspection facilities; export facilities, hazardous materials containment facilities; drainage structures, grading and landscaping, roads, vehicle parking, and three crossing points for commercial and non-commercial vehicular traffic and pedestrian crossings.

This permit is subject to the following conditions:

Article 1. (1) The facilities herein described, and all aspects of their operation, shall be subject to all the conditions, provisions, and requirements of this permit and any amendment thereof. This permit may be terminated at the will of the Secretary of State or the Secretary's delegate or may be amended by the Secretary of State or the Secretary's delegate at will or upon proper application therefor. The permittee shall make no substantial change in the location of the facilities or in the operation authorized by this permit until such changes have been approved by the Secretary of State or the Secretary's delegate.

(2) The construction, operation, and maintenance of the facilities shall be in all material respects as described in the permittee's September 24, 2014, application for a Presidential Permit (the “Application”).

Article 2. The standards for, and the manner of, the construction, operation, and maintenance of the facilities shall be subject to inspection and approval by the representatives of appropriate federal, state and local agencies. The permittee shall allow duly authorized officers and employees of such agencies free and unrestricted access to said facilities in the performance of their official duties.

Article 3. The permittee shall comply with all applicable federal, state, and local laws and regulations regarding the construction, operation, and maintenance of the facilities and with all applicable industrial codes. The permittee shall obtain all requisite permits from state and local government entities and relevant federal agencies.

Article 4. This permit and the operation of the facilities hereunder shall be subject to the limitations, terms, and conditions issued by any competent agency of the United States government, including but not limited to the Department of Homeland Security (DHS). This permit shall continue in force and effect only so long as the permittee shall continue the operations hereby authorized in exact accordance with such limitations, terms, and conditions.

Article 5. Any transfer of ownership or control of the facilities or any part thereof shall be immediately notified in writing to the U.S. Department of State, including the submission of information identifying the transferee. This permit shall remain in force subject to all the conditions, permissions, and requirements of this permit and any amendments thereto unless subsequently terminated or amended by the Secretary of State or the Secretary's delegate.

Article 6. (1) The permittee shall acquire such right-of-way grants or easements, permits, and other authorizations as may become necessary and appropriate.

(2) The permittee shall maintain the facilities and every part thereof in a condition of good repair for their safe operation, and in compliance with prevailing environmental standards and regulations.

Article 7. (1) The permittee shall reach agreement with U. S. Customs and Border Protection (CBP) on the provision of suitable facilities for CBP officers to perform their duties. Such facilities shall meet the latest CBP design standards and operational requirements including as necessary, but not limited to, inspection and office space, CBP personnel parking and restrooms, an access road, kennels, and other operationally required components.

Article 8. (1) The permittee shall take all appropriate measures to prevent or mitigate adverse impacts on, or disruption of, the human environment in connection with the construction, operation, and maintenance of the facilities.

Article 9. The permittee shall provide written notice to the Department of State at such time as the construction authorized by this permit is begun, and again at such time as construction is completed, interrupted, or discontinued.

Article 10. This permit shall expire ten years from the date of issuance in the event that the permittee has not commenced construction of the new facilities by that deadline.

In witness whereof, I, Catherine A. Novelli, Under Secretary of State for Economic Growth, Energy, and the Environment, have hereunto set my hand this 14th day of April, 2015 in the City of Washington District of Columbia.

Catherine A. Novelli,
Under Secretary of State for Economic Growth, Energy, and the Environment.
Dated: April 16, 2015.
Rachel M. Poynter,
Acting Director, Office of Mexican Affairs, Bureau of Western Hemisphere Affairs, U.S. Department of State.

[FR Doc. 2015-09375 Filed 4-21-15; 8:45 am]

BILLING CODE 4710-29-P